DEPARTMENT OF COMMERCE

Submission for OMB Review; Comment Request

DOC has submitted to the Office of Management and Budget (OMB) for clearance the following proposal for collection of information under the provisions of the Paperwork Reduction Act (44 U.S.C. chapter 35).

AGENCY: Bureau of Industry and Security.

Title: Miscellaneous Activities.

Form Number(s): Not applicable.

Agency Approval Number: 0694-0102.

Type of Request: Renewal of an existing collection.

Burden: 10 hours.

Number of respondents: 2.

Average hours per response: 5.

Needs and uses: On September 30, 1993, the Secretary of Commerce submitted to the Congress a report of the Trade Promotion Coordinating Committee, entitled Toward a National Export Strategy. The report included the goal to “Undertake a comprehensive review of the Export Administration Regulations to simplify, clarify, and make the regulations more user-friendly”. To carry out this recommendation, BIS has rewritten the entire EAR. During the course of this process, many activities imposed on the public were changed to reduce the burden, however the methods varied. Some were merely eliminated; others had old activities replaced with newer, simpler activities, and still others had new activities added to permit participation in programs where prohibitions once existed. Therefore, to the extent activities have been added or changed but not deleted, this collection represents the authority to collect, on rare occasions, certain information from the public. This assembly of information collection activities is comprised of two activities. The two of these—“Registration Of U.S. Agricultural Commodities For Exemption From Short Supply Limitations On Export”, and “Petitions For The Imposition Of Monitoring Or Controls On Recyclable Metallic materials; Public Hearings” are statutory in nature and—though they never have been applied—must remain a part of BIS's information collection budget authorization.

Affected Public: Individuals, businesses or other for-profit and not-for-profit institutions.

Frequency: On occasion.

Respondent's Obligation: Voluntary.

OMB Desk Officer: David Rostker, 202-395-3897.

Copies of the above information collection proposal can be obtained by calling or writing Madeleine Clayton, Departmental Paperwork Clearance Officer, Office of the Chief Information Officer, (202) 482-3129, Department of Commerce, room 6608, 14th and Constitution Avenue, NW., Washington, DC 20230.

Written comments and recommendations for the proposed information collection should be sent within 30 days of publication of this notice to David Rostker, OMB Desk Officer, room 10202, New Executive Office Building, Washington, DC 20503.

Dated: August 20, 2002.
Madeleine Clayton,
Departmental Paperwork Clearance Officer, Office of the Chief Information Officer.

[FR Doc. 02-21816 Filed 8-27-02; 8:45 am]

BILLING CODE 3510-33-P